DEPARTMENT OF AGRICULTURE

Forest Service

Coronado National Forest; Arizona; Revised Land and Resource Management Plan

AGENCY: Forest Service, USDA.

ACTION: Notice of initiation to revise the Coronado National Forest's Land and Resource Management Plan.

SUMMARY: The Forest Service is revising the Coronado National Forest's Land and Resource Management Plan (hereafter referred to as the Forest Plan). This notice describes the documents available for review and how to obtain them; summarizes the need to change the Forest Plan; provides information concerning public participation and collaboration, including the process for submitting comments; provides an estimated schedule for the planning process, including the time available for comments; and includes names and addresses for agency officials who can provide additional information.

DATES: Revision formally begins with the publication of this notice in the Federal Register. To be most beneficial to the planning process, your comments on the need for change should be submitted by August 31, 2009.

ADDRESSES: Send written comments to: Coronado National Forest, Attention: Forest Plan Revision Team, 300 W Congress, Tucson, Arizona 85701. E-mail: coronado-plan@fs.fed.us.

FOR FURTHER INFORMATION CONTACT: Jennifer Ruyle at (520) 388-8300 or e-mail the plan revision team at: coronado-plan@fs.fed.us.

SUPPLEMENTARY INFORMATION:

Documents Available for Review

The Comprehensive Evaluation Report, the Ecological Sustainability Report, and the Social and Economic Sustainability Report are the Forest Plan revision analysis documents that provide evaluations of social, economic, and ecological conditions and trends in and around the Coronado National Forest. The information outlined in the Comprehensive Evaluation Report identifies the need to change or revise the 1986 Forest Plan. These documents are available for review and are located on the Forest's Web site at http://www.fs.fed.us/r3/coronado/plan-revision/plan-revision-documents.shtml or by request.

Need for Change

The need for change has been organized into five revision topics: 1. Ecosystem Restoration, 2. Safety and Information, 3. Public Access and Travel Patterns, 4. Preservation of Open Space, and 5. Collaboration and Partnerships. For each of the revision topics, there is a need for the revised Forest Plan to make changes in plan components and management approaches, as described below:

1. Ecosystem Restoration

Needed changes in plan components:

• Desired condition statements and objectives need to be developed that provide adequate guidance for sustaining and restoring ecosystems.

• Plan components should be changed to reflect new scientific knowledge and updated language.

• The Forest Plan components for ecological attributes should be integrative, where possible, to reflect the interconnectedness between physical and biological resources.

• The Forest Plan needs to be changed to include objectives and guidelines that reflect systematic observation and analysis of treatment results, and adaptation of treatment methods based on those results.

• As Forest Plan components are developed, they will need to reflect the uncertainties associated with changing climate.

• Plan components for reducing the threat of invasive species and for conserving native species will need to be developed.

• Plan components will need to be developed for sustaining aquatic habitats that are at risk.

• Place-based geographic area plan components should be developed where it makes sense to do so. This will help to facilitate understanding of the management needs for each mountain range.

2. Safety and Information

Needed changes in plan components:

• The Forest Plan needs to be changed to identify new strategies for sustaining the forest resources and experiences in the face of changes in population, behavior, and increased development.

• Place-based geographic area plan components should be developed where it makes sense to do so.

3. Public Access and Travel Patterns

Needed changes in plan components:

• The Forest Plan needs to be changed to include desired conditions and objectives that emphasize and prioritize Forest-wide public and administrative access needs.

Needed changes in management approaches:

Management approaches should be identified that facilitate comprehensive, coordinated and flexible collaborative solutions for resolving public access needs.

4. Preservation of Open Space

Needed changes in plan components:

• Desired condition statements should be developed that reflect the role of the Coronado National Forest in preserving open space.

• Guidelines, based on the Scenery Management System, should be developed to protect scenic natural landscapes.

Needed changes in management approaches:

• Management approaches for the Coronado National Forest will need to be developed for participating in county and community land use planning efforts.

5. Collaboration and Partnerships

Needed changes in plan components:

• The Forest Plan should include desired conditions that reflect, where possible, outcomes that are based on collaborative processes.

Needed changes in management approaches:

• Management approaches that emphasize collaboration should be described.

• The plan needs to be changed to reflect an integrated approach to management of traditional uses and cultural resources.

(Reference: Comprehensive Evaluation Report.)

Public Participation and Opportunity To Comment

The revision process is designed to provide continued opportunities for public collaboration and open participation in the development of the revised Forest Plan. Additional information on the process, the documents being produced, and public participation opportunities can be found on the Coronado National Forest's plan revision Web site at: http://www.fs.fed.us/r3/coronado/plan-revision/index.shtml. The Forest Service is seeking public comments on the need for change identified in the comprehensive Evaluation Report. Substantive comments received by August 31, 2009 will be of the most value in evaluating public response to the adequacy of the need for change topics outlined in the report.

It is important to participate in the plan revision process as only those parties who participate following the publication of this notice through the submission of written comments can submit an objection later in the proposed plan development process pursuant to 36 CFR 219.13(a).

Comments received during the planning process, including the names and addresses of those who commented will be part of the public record available for public inspection. The Responsible Official shall accept and consider comments submitted anonymously. Submit written comments to the address noted above.

Estimated Planning Process Schedule

The revision process for the Coronado National Forest officially begins with the publication of this notice in the Federal Register. A draft proposed Forest Plan is currently scheduled to be issued for pre-decisional review in May 2010 and final plan approval in December 2010.

Responsible Official

The Forest Supervisor, Coronado National Forest, is the Responsible Official (36 CFR 219.2(b)(1)). (Authority: 36 CFR 219.9(b)(2)(i), 73 FR 21509, April 21, 2008).

Dated: June 11, 2009.
Jeanine Derby,
Forest Supervisor, Coronado National Forest.

[FR Doc. E9-14537 Filed 6-19-09; 8:45 am]

BILLING CODE 3410-11-M